SOCIAL SECURITY ADMINISTRATION

[Docket No. SSA 2015-0031]

Privacy Act of 1974, as Amended; Computer Matching Program (SSA/Office of Personnel Management (OPM))—Match Numbers 1005, 1019, 1020, and 1021

AGENCY: Social Security Administration (SSA).

ACTION: Notice of a renewal of existing computer matching programs that will expire on October 12, 2015.

SUMMARY: In accordance with the provisions of the Privacy Act, as amended, this notice announces a renewal of existing computer matching programs that we are currently conducting with OPM.

DATES: We will file a report of the subject matching programs with the Committee on Homeland Security and Governmental Affairs of the Senate; the Committee on Oversight and Government Reform of the House of Representatives; and the Office of Information and Regulatory Affairs, Office of Management and Budget (OMB). The matching programs will be effective as indicated below.

ADDRESSES: Interested parties may comment on this notice by either telefaxing to (410) 966-0869 or writing to the Executive Director, Office of Privacy and Disclosure, Office of the General Counsel, Social Security Administration, 617 Altmeyer Building, 6401 Security Boulevard, Baltimore, MD 21235-6401. All comments received will be available for public inspection at this address.

FOR FURTHER INFORMATION CONTACT: The Executive Director, Office of Privacy and Disclosure, Office of the General Counsel, as shown above.

SUPPLEMENTARY INFORMATION:

A. General

The Computer Matching and Privacy Protection Act of 1988 (Pub. L. 100-503), amended the Privacy Act (5 U.S.C. 552a) by describing the conditions under which computer matching involving the Federal government could be performed and adding certain protections for persons applying for, and receiving, Federal benefits. Section 7201 of the Omnibus Budget Reconciliation Act of 1990 (Pub. L. 101-508) further amended the Privacy Act regarding protections for such persons.

The Privacy Act, as amended, regulates the use of computer matching by Federal agencies when records in a system of records are matched with other Federal, State, or local government records. It requires Federal agencies involved in computer matching programs to:

(1) Negotiate written agreements with the other agency or agencies participating in the matching programs;

(2) Obtain approval of the matching agreement by the Data Integrity Boards of the participating Federal agencies;

(3) Publish notice of the computer matching program in the Federal Register;

(4) Furnish detailed reports about matching programs to Congress and OMB;

(5) Notify applicants and beneficiaries that their records are subject to matching; and

(6) Verify match findings before reducing, suspending, terminating, or denying a person's benefits or payments.

B. SSA Computer Matches Subject to the Privacy Act

We have taken action to ensure that all of our computer matching programs comply with the requirements of the Privacy Act, as amended.

Mary Ann Zimmerman,
Acting Executive Director, Office of Privacy and Disclosure, Office of the General Counsel.

Notice of Computer Matching Program, SSA With the Office of Personnel Management (OPM)

A. Participating Agencies

SSA and OPM.

B. Purpose of the Matching Program

The purpose of this matching program is to set forth the terms, conditions, and safeguards under which OPM will disclose civil service benefit and payment data to us. We are legally required to offset specific benefits by a percentage of civil service benefits received (Spousal and Survivors benefits, Supplemental Security Income (SSI) benefits, and Disability Insurance Benefits are offset by a percentage of the recipients own Federal Government pension benefits). We administer the Old Age, Survivors, Disability Insurance (OASDI), SSI, and Special Veterans' Benefits (SVB) programs. We will use the match results under this agreement to meet our civil service benefit offset obligations. Appendices A, B, C, and D of this agreement contain specific information on the matching programs that we will conduct under this agreement. Our Office of the Chief Actuary (OCA) will also use OPM's data for statistical and research purposes in tracking the size of, and impact on, subpopulations of government annuitants affected by the Government Pension Offset (GPO), the Windfall Elimination Provision (WEP), and in cost estimates of proposals to change the two provisions.

C. Authority for Conducting the Matching Program

The legal authority for us to conduct this matching activity for SSI purposes is section 1631(e)(1)(B) and (f) of the Social Security Act (Act) (42 U.S.C. 1383(e)(1)(B) and (f)), and for SVB purposes, is section 806 of the Act (42 U.S.C. 1006). Section 224 of the Act (42 U.S.C. 424a) provides for the reduction of Social Security disability benefits when the disabled worker is also entitled to a Public Disability Benefit (PBD).

Section 1631(f) of the Act (42 U.S.C. 1383 (f)) requires Federal agencies to furnish us with information necessary to verify eligibility. Section 224(h)(1) of the Act (42 U.S.C. 424a(h)(1)) requires any Federal agency to provide us with information in its possession that we may require for the purposes of making a timely determination of the amount of reduction under section 224 of the Act (42 U.S.C. 424a).

This agreement is executed in compliance with the Privacy Act of 1974 (5 U.S.C. 552a), as amended by the Computer Matching and Privacy Protection Act of 1988, and the regulations and guidance promulgated thereunder.

D. Categories of Records and Persons Covered by the Matching Program

OPM will provide us with monthly electronic files from the OPM system of record (SOR) published as OPM/Central-1 (Civil Service Retirement and Insurance Records). The files will contain civil service benefit and payment data, including: name; Social Security number (SSN); date of birth; civil service claim number; first potential month and year of eligibility; first month, day, and year of entitlement; and amount of current gross civil service benefits. OPM will also disclose date of death to us for the purposes captured in Appendices C and D.

We will conduct the match using the individual's SSN, name, and date of birth on both the OPM file and our databases covered under our following SORs: The Master Files of SSN Holders and SSN Applications (Numident), 60-0058; the Master Beneficiary Record (MBR), 60-0090; and the SSI Record and Special Veterans Benefits Record (SSR/SVB), 60-0103.

We will use the information to: (1) Identify SSI and SVB recipients with unreported income from civil service pensions (Match 1005, Appendix A); (2) identify beneficiaries receiving Title II disability insurance benefits who are also receiving a Federal civil service disability benefit (Match 1019, Appendix B); (3) identify Title II beneficiaries receiving retirement or disability insurance benefits who are also receiving a Federal Government pension benefit (Match 1020, Appendix C); and (4) identify Title II beneficiaries receiving auxiliary or survivor Social Security benefits, who are also receiving Federal Government pension benefits as retired civil service employees (Match 1021, Appendix D). See Appendices A-D.

Our OCA will use OPM's monthly extract files for statistical and research purposes in tracking the size of, and impact on, subpopulations of government annuitants affected by the GPO, WEP, and in cost estimates of proposals to change the two provisions.

E. Inclusive Dates of the Matching Program

The effective date of this matching program is October 13, 2015, provided that the following notice periods have lapsed: 30 days after publication of this notice in the Federal Register and 40 days after notice of the matching program is sent to Congress and OMB. The matching program will continue for 18 months from the effective date and, if both agencies meet certain conditions, it may extend for an additional 12 months thereafter.

[FR Doc. 2015-25601 Filed 10-7-15; 8:45 am]

BILLING CODE 4191-02-P